Title 3—

The President

Proclamation 9353 of October 22, 2015

United Nations Day, 2015

By the President of the United States of America

A Proclamation

Seventy years after a world ravaged by war and injustice came together to chart the course for a future defined by common ideals, we reflect on the progress made and the work that remains to fully realize the vision set out in the United Nations Charter. Across our increasingly interconnected globe, the principles embodied in that founding document—and in the international system built over decades—are more essential than ever. As we celebrate the central role the United Nations plays in resolving conflict, providing humanitarian assistance, and spurring sustainable development, we reaffirm our commitment to pursuing a more just and peaceful world for generations to come.

Since the end of World War II, the United Nations has provided a forum for all countries to come together around the same rules and norms to help advance development and security; bolster ties between member states; and conquer disease, hunger, and poverty. During this time, we have seen great advances in health and education, the emergence of a global economy connecting every region of the globe through groundbreaking developments in commerce and technology, and the rise of more democratic governments. Even as we recognize the significance of the progress that has been made, we know that grave challenges to our common security and principles risk pulling us back to a more disordered world. In meeting those threats, we must summon the spirit of unity and cooperation at the heart of the United Nations Charter—signed in 1945 by 51 countries—and rededicate ourselves in support of the United Nations.

Inherent in the idea of the United Nations is the notion that the peoples of the world are bound by more than geography—that we all belong to a community that is capable of working together to protect our security, our environment, and our health; that is committed to ensuring the dignity and rights of people around the world are safeguarded; and that is dedicated to preserving the cultural and natural treasures of the earth. As we commemorate the 70th anniversary of the founding of the United Nations, let us resolve to forge a future of greater peace and cooperation. With enduring effort and dedication to make real the ideals that guide us, continued progress can remain within our reach.

NOW, THEREFORE, I, BARACK OBAMA, President of the United States of America, by virtue of the authority vested in me by the Constitution and the laws of the United States, do hereby proclaim October 24, 2015, as United Nations Day. I urge the Governors of the 50 States, and the officials of all other areas under the flag of the United States, to observe United Nations Day with appropriate ceremonies and activities.

IN WITNESS WHEREOF, I have hereunto set my hand this twenty-second day of October, in the year of our Lord two thousand fifteen, and of the Independence of the United States of America the two hundred and fortieth.

[FR Doc. 2015-27548

Filed 10-26-15; 11:15 am]

Billing code 3295-F6-P